FEDERAL COMMUNICATIONS COMMISSION

47 CFR Parts 61 and 64

[WC Docket No. 10-141; FCC 11-92]

Electronic Tariff Filing System (ETFS)

AGENCY: Federal Communications Commission.

ACTION: Final rule; announcement of effective date.

SUMMARY: In this document, the Commission announces that the Office of Management and Budget (OMB) has approved, for a period of three years, the information collection associated with the Commission's Electronic Tariff Filing System (ETFS), Report and Order (Order). This notice is consistent with the Order, which stated that the Commission would publish a document in the Federal Register announcing the effective date of those rules.

DATES: The rules published at 47 CFR in parts 61 and 64 published at 76 FR 43206, July 20, 2011, are effective November 17, 2011.

FOR FURTHER INFORMATION CONTACT: Pamela Arluk, Pricing Policy Division, Wireline Competition Bureau, at (202) 418-1520, or email: pamela.arluk@fcc.gov.

SUPPLEMENTARY INFORMATION: This document announces that, on July 20, 2011, OMB approved, for a period of three years, the information collection requirements contained in the Commission's Order, FCC 11-92, published at 76 FR 43206, July 20, 2011. The OMB Control Number is 3060-1142. The Commission publishes this notice as an announcement of the effective date of the rules. If you have any comments on the burden estimates listed below, or how the Commission can improve the collections and reduce any burdens caused thereby, please contact Cathy Williams, Federal Communications Commission, Room 1-C823, 445 12th Street, SW., Washington, DC 20554. Please include the OMB Control Number, 3060-1142, in your correspondence. The Commission will also accept your comments via e-mail at PRA@fcc.gov.

To request materials in accessible formats for people with disabilities (Braille, large print, electronic files, audio format), send an e-mail to fcc504@fcc.gov or call the Consumer and Governmental Affairs Bureau at (202) 418-0530 (voice), (202) 418-0432 (TTY).

Synopsis

As required by the Paperwork Reduction Act of 1995 (44 U.S.C. 3507), the FCC is notifying the public that it received OMB approval on July 20, 2011, for the information collection requirements contained in the modifications to the Commission's rules in 47 CFR parts 61 and 64.

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1142.

The foregoing notice is required by the Paperwork Reduction Act of 1995, Public Law 104-13, October 1, 1995, and 44 U.S.C. 3507.

The total annual reporting burdens and costs for the respondents are as follows:

OMB Control Number: 3060-1142.

OMB Approval Date: July 20, 2011.

OMB Expiration Date: September 30, 2013.

Title: Electronic Tariff Filing System, WC Docket No. 10-141.

Form Number: N/A.

Respondents: Business or other for-profit entities.

Number of Respondents and Responses: 1,500 respondents; 1,500 responses.

Estimated Time per Response: 1 hour.

Frequency of Response: Annual and on-occasion reporting requirements.

Obligation to Respond: Required to obtain or retain benefits. The statutory authority for this information collection is found at sections 1, 2, 4(i), 201-205, and 226(h)(1)(A) of the Communications Act of 1934, as amended (Act), 47 U.S.C. 151, 152, 154(i), 201-205, and 226(h)(1)(A).

Total Annual Burden: 1,500 hours.

Total Annual Cost: $1,222,500.

Nature and Extent of Confidentiality: An assurance of confidentiality is not offered because this information collection does not require the collection of personally identifiable information (PII) from individuals.

Needs and Uses: In this document, the Federal Communications Commission (Commission) adopts rule revisions enabling all tariff filers to file tariffs electronically over the Internet, using the Electronic Tariff Filing System (ETFS). Additionally, the Commission clarifies and makes more consistent certain technical rules related to tariff filings. The Commission concludes that it is appropriate to apply the same electronic filing requirements to all tariff filers and expands the applicability of the Commission's rules to include all tariff filers. The Commission also concludes that the Commission's rules, which require specific formatting and composition of tariffs, will now apply to all tariff filers. The Chief of the Wireline Competition Bureau will be responsible for administering the adoption of electronic tariff filing requirements for all tariff filers.

Federal Communications Commission.
Marlene H. Dortch,
Secretary.

[FR Doc. 2011-25801 Filed 10-5-11; 8:45 am]

BILLING CODE 6712-01-P